CHEMICAL SAFETY AND HAZARD INVESTIGATION BOARD

Public Hearing: Reactive Chemical Hazards

AGENCY: U.S. Chemical Safety and Hazard Investigation Board (CSB).

ACTION: Notice announcing public hearing and requesting public comment and participation.

SUMMARY: The CSB is planning to hold a public hearing to examine findings and preliminary conclusions resulting from its investigation into chemical process safety involving reactive hazards. This notice provides information regarding the CSB investigation into reactive hazards, a request for comments on specific issues raised by the investigation, and the date, time, location and format for the public hearing.

DATES: The Public Hearing will be held on Thursday, May 30, 2002, beginning at 9 a.m. at the Paterson, New Jersey, City Hall, 155 Market Street, Paterson, New Jersey.

Pre-registration: The event is open to the public and there is no fee for attendance. However, attendees are strongly encouraged to pre-register, to ensure adequate seating arrangements. To pre-register, please e-mail your name and affiliation by May 22, 2002, to reactives@csb.gov.

Written Comments: The public is encouraged to not only submit written comments but also to provide oral comments at the Public Hearing. Individuals, organizations, businesses, or local, state or federal government agencies may submit written comments on the questions to be addressed at the Public Hearing. Such comments must be filed on or before June 30, 2002. For further instructions on submitting comments, please see the “Form and Availability of Comments” section below.

ADDRESSES: Written comments and requests to provide oral comments at the Public Hearing should be submitted to: Mr. John Murphy, U.S. Chemical Safety and Hazard Investigation Board, 2175 K Street, NW., Suite 400, Washington, DC 20037. Alternatively, they may be e-mailed to reactives@csb.gov.

FOR FURTHER INFORMATION CONTACT: John Murphy, Office of Investigations and Safety Programs, 202.261.7622 or e-mail at: reactives@csb.gov.

SUPPLEMENTARY INFORMATION:

A. Introduction

B. Background

C. CSB Hazard Investigation

D. Key Findings

E. Request for Comments

F. Form and Availability of Comments

G. Registration Information

H. Sunshine Act Notice

A. Introduction

The CSB is nearing completion of its investigation into incidents involving reactive hazards. A public hearing will be held on May 30th, 2002, at 9 am, at the Paterson, New Jersey, City Hall, 155 Market Street. CSB staff will present findings and preliminary conclusions from this investigation to the Board. The hearing provides a forum for interested parties to provide input prior to CSB's formulation of final recommendations and issuance of a report. Witnesses will be called, and there will be an opportunity for public comment.

B. Background

In April 1995, an explosion and fire at Napp Technologies, in Lodi, New Jersey, killed five employees, injured several others, destroyed a majority of the facility and significantly damaged nearby businesses, and resulted in the evacuation of 300 residents from their homes and a school. Additionally, firefighting efforts generated chemically contaminated water that ran off into a river. Property damage exceeded $20 million. The incident occurred as Napp was performing a toll blending operation. The chemicals involved were water reactive. During the operation, water was inadvertently introduced into a blender in the process.¹ This initiated a sequence of events that led to the severe impacts.

¹ EPA/OSHA Joint Chemical Accident Investigation Report, Napp Technologies, Inc., Lodi, NJ October 1997

On August 24, 2000, the CSB approved an investigative report on the April 1998 explosion at the Morton International (now Rohm and Haas) facility in Paterson, New Jersey.² The report stated that the incident might not have occurred had the company's safety program for reactive chemicals followed recommended industry safety practices. The blast injured nine workers and released chemicals into the neighboring community. Although the chemical involved in this incident has the capacity to decompose violently, it is not covered under OSHA's PSM or EPA's RMP.

² US CSB, Investigation Report, Morton International, Inc.; www.csb.gov

The Napp incident, the Morton incident, and other similar events led the CSB to conduct a reactive chemical hazard investigation.

C. CSB Hazard Investigation

The objectives of CSB's investigation included: evaluation of the impacts of reactive chemical incidents; examination of how OSHA and EPA authorities and regulations address reactive hazards; analysis of the appropriateness and consideration of alternatives to reliance on the National Fire Protection Association (NFPA) instability rating system to define reactive substances covered under OSHA's process safety management (PSM) standard; examination of how industry and other private sector organizations address reactive hazards; and development of recommendations for reducing the number and severity of reactive chemical incidents.

D. Key Findings

The data analyzed by CSB include 167 serious incidents in the United States involving uncontrolled chemical reactivity that occurred from 1980 to June 2001. Forty-eight of these incidents resulted in a total of 108 fatalities. Available data reveal that there were an average of 6 injury-related incidents that resulted in 5 fatalities per year. About 50 of the 167 incidents affected the public.³ Approximately 70 percent of the 167 incidents occurred in the chemical manufacturing industry. Some reactive chemical incidents have caused in excess of $100 million in damage.

³ Public impact is defined as known injury, offsite evacuation, or shelter-in-place.

Where causal information is available,⁴ 60 percent of the reactive chemical incidents involved inadequate management systems for identifying hazards or conducting process hazard evaluations.

⁴ Causal information was available in 20 percent of the 167 incidents.

OSHA's PSM standard covers listed chemicals that present a range of hazards, including reactivity. Reactive chemicals covered by OSHA's PSM were selected from a list of chemicals rated by NFPA because they have an instability rating of “3” or “4” (on a scale of 0 to 4). EPA's Risk Management Program (RMP; 40CFR68) does not list substances for coverage based on reactivity. Over 50 percent of the 167 incidents involved chemicals not covered by existing OSHA or EPA process safety regulations. Approximately 60 percent of the 167 incidents involved chemicals that are either not rated by NFPA or have instability ratings indicating “no special hazard” (NFPA “0”).

NFPA instability ratings have the following limitations with respect to identifying reactive hazards: they were designed for initial emergency response purposes, not for application to chemical process safety; they address the instability of single substances only, not reactivity with other chemical substances (with the exception of water) or chemical behavior under process conditions. OSHA's PSM covers only 38 chemicals that are rated as 3's or 4's by NFPA Standard 49 (1975). This standard is based on a rating system that relies, in part, on subjective criteria.

The list-based approach for establishing coverage of reactive hazards in the OSHA PSM standard is inadequate because it fails to address the hazards from combinations of chemicals and process-specific conditions. Additional staff findings and conclusions will be presented at the public hearing.

E. Request for Comments

CSB solicits written or verbal comments on the following four issues, which will be the main focus of the public hearing:

1. Is there a need to improve coverage of potentially catastrophic ⁵ reactive hazards under OSHA's PSM standard? If so, what approaches should be pursued?

⁵ Potentially catastrophic reactive hazards covered under the provisions of OSHA PSM standard fall in the category of “highly hazardous” substances. Highly hazardous substances include substances listed due to their reactivity or toxicity, and a class a flammables.

a. What criteria could be used, in the context of process safety regulations, to classify chemical mixtures as “highly hazardous” due to chemical reactivity?

b. Should there be a minimum regulatory requirement for reactive hazard identification and evaluation that applies to all facilities engaged in chemical manufacturing?

c. What are alternative regulatory approaches?

2. For processes already covered under the OSHA PSM standard, do the safety management requirements of the standard adequately address reactive hazards? If not, what should be added or changed?

3. Does EPA's RMP regulation provide sufficient coverage to protect the public and the environment from the hazards of reactive chemicals? If not, what should be added or changed?

4. What non-regulatory actions should be taken by OSHA and EPA to reduce the number and severity of reactive chemical incidents?

Additional Issues. CSB also solicits comments on the following related subjects: (i) suggested improvements to industry guidance or initiatives (e.g. Responsible Care®, Responsible Distribution Process℠, etc.) to reduce the number and severity of reactive incidents; (ii) suggested improvements for the sharing of reactive chemical test data, incident data, and lessons learned; (iii) other non-regulatory initiatives that would help prevent reactive incidents.

F. Form and Availability of Comments

Comments should address the questions listed above. CSB will accept verbal comments at the public hearing. Verbal comments must be limited to 5 minutes. Those wishing to make verbal comments should pre-register by May 22nd. To pre-register, send your name and a brief outline of your comments to the person listed in “Addresses.”

The CSB requests that interested parties submit written comments on the above questions to facilitate greater understanding of the issues. Of particular interest are any studies, surveys, research, and empirical data. Comments should indicate the number(s) of the specific question(s) being answered, provide responses to questions in numerical order, and use a separate page for each question answered. Comments should be captioned “Reactives Hazard Investigation—Comments,” and must be filed on or before June 30, 2002.

Parties sending written comments should submit an original and two copies of each document. To enable prompt review and public access, paper submissions should include a version on diskette in PDF, ASCII, WordPerfect, or Microsoft Word format. Diskettes should be labeled with the name of the party, and the name and version of the word processing program used to create the document. Alternatively, comments may be e-mailed to reactives@csb.gov. Written comments will be available for public inspection in accordance with the Freedom of Information Act, 5 U.S.C. 552, and CSB regulations. This notice and, to the extent technologies make it possible, all comments will also be posted on the CSB Web site: www.csb.gov.

G. Registration Information

The Public Hearing will be open to the public, and there is no fee for attendance. As discussed above, pre-registration is strongly encouraged, as seating may be limited. To pre-register, please e-mail your name and affiliation to reactives@csb.gov by May 22, 2002. A detailed agenda and additional information on the hearing will be posted on the CSB's Web site at www.csb.gov before May 22, 2002.

H. Sunshine Act Notice

The United States Chemical Safety and Hazard Investigation Board announces that it will convene a Public Meeting beginning on Thursday, May 30, 2002, beginning at 9 a.m. at the Paterson, New Jersey, City Hall, 155 Market Street, Paterson New Jersey. Topics will include: CSB's investigation into process safety of reactive hazards. The meeting will be open to the public. Please notify CSB if a translator or interpreter is needed, 10 business days prior to the public meeting. For more information, please contact the Chemical Safety and Hazard Investigation Board's Office of Congressional and Public Affairs, 202.261.7600, or visit our Web site at: www.csb.gov.

Christopher W. Warner,
General Counsel.

[FR Doc. 02-9105 Filed 4-15-02; 8:45 am]

BILLING CODE 6350-01-P